ENVIRONMENTAL PROTECTION AGENCY

[EPA-HQ-OAR-2014-0831; FRL-9922-44-OAR]

40 CFR Part 98

RIN 2060-AS37

Greenhouse Gas Reporting Rule: 2015 Revisions and Confidentiality Determinations for Petroleum and Natural Gas Systems; Extension of Comment Period

AGENCY: Environmental Protection Agency.

ACTION: Proposed rule.

SUMMARY: The Environmental Protection Agency (EPA) is announcing an extension of the public comment period for the proposed rule titled “Greenhouse Gas Reporting Program: 2015 Revision and Confidentiality Determinations for Petroleum and Natural Gas Systems”. The public comment period for this proposal began on December 9, 2014. This document announces the extension of the deadline for public comment from February 9, 2015 to February 24, 2015.

DATES: The comment period for the proposed rule published on December 9, 2014 (79 FR 73147) has been extended. Comments must be received on or before February 24, 2015.

ADDRESSES: You may submit your comments, identified by Docket ID No. EPA-HQ-OAR-2014-0831 by any of the following methods:

• Federal eRulemaking Portal: http://www.regulations.gov. Follow the online instructions for submitting comments.

• Email: A-and-R-Docket@epa.gov. Include Docket ID No. EPA-HQ-OAR-2014-0831 or RIN No. 2060-AS37 in the subject line of the message.

• Fax: (202) 566-9744.

• Mail: Environmental Protection Agency, EPA Docket Center (EPA/DC), Mailcode 28221T, Attention Docket ID No. EPA-HQ-OAR-2014-0831, 1200 Pennsylvania Avenue NW., Washington, DC 20460. In addition, please mail a copy of your comments on the information collection provisions to the Office of Information and Regulatory Affairs, Office of Management and Budget (OMB), Attn: Desk Officer for EPA, 725 17th Street NW., Washington, DC 20503.

• Hand/Courier Delivery: EPA Docket Center, Room 3334, EPA WJC West Building, 1301 Constitution Avenue NW., Washington, DC 20004. Such deliveries are accepted only during the normal hours of operation of the Docket Center, and special arrangements should be made for deliveries of boxed information.

Instructions: Direct your comments to Docket ID No. EPA-HQ-OAR-2014-0831. EPA's policy is that all comments received will be included in the public docket without change and may be made available online at http://www.regulations.gov, including any personal information provided, unless the comment includes information claimed to be confidential business information (CBI) or other information whose disclosure is restricted by statute. Do not submit information that you consider to be CBI or otherwise protected through http://www.regulations.gov or email. The http://www.regulations.gov Web site is an “anonymous access” system, which means the EPA will not know your identity or contact information unless you provide it in the body of your comment. If you send an email comment directly to the EPA without going through http://www.regulations.gov, your email address will be automatically captured and included as part of the comment that is placed in the public docket and made available on the Internet. If you submit an electronic comment, the EPA recommends that you include your name and other contact information in the body of your comment and with any disk or CD-ROM you submit. If the EPA cannot read your comment due to technical difficulties and cannot contact you for clarification, the EPA may not be able to consider your comment. Electronic files should avoid the use of special characters, any form of encryption, and be free of any defects or viruses.

Docket: All documents in the docket are listed in the http://www.regulations.gov index. Although listed in the index, some information is not publicly available, e.g., CBI or other information whose disclosure is restricted by statute. Certain other material, such as copyrighted material, will be publicly available for viewing at the EPA Docket Center. Publicly available docket materials are available either electronically in http://www.regulations.gov or in hard copy at the Air Docket, EPA/DC, WJC West Building, Room 3334, 1301 Constitution Ave. NW., Washington, DC. This Docket Facility is open from 8:30 a.m. to 4:30 p.m., Monday through Friday, excluding legal holidays. The telephone number for the Public Reading Room is (202) 566-1744, and the telephone number for the Air Docket is (202) 566-1742.

FOR FURTHER INFORMATION CONTACT: Carole Cook, Climate Change Division, Office of Atmospheric Programs (MC-6207A), Environmental Protection Agency, 1200 Pennsylvania Ave. NW., Washington, DC 20460; telephone number: (202) 343-9263; fax number: (202) 343-2342; email address: GHGReporting@epa.gov. For technical questions, please see the Greenhouse Gas Reporting Program Web site http://www.epa.gov/ghgreporting/index.html. To submit a question, select Help Center, followed by Contact Us.

SUPPLEMENTARY INFORMATION:

Worldwide Web (WWW)

In addition to being available in the docket, an electronic copy of this document will also be available through the WWW. Following signature, a copy of this action will be posted on the EPA's greenhouse gas reporting rule Web site at http://www.epa.gov/ghgreporting/index.html.

Additional Information on Submitting Comments

To expedite review of your comments by Agency staff, you are encouraged to send a separate copy of your comments, in addition to the copy you submit to the official docket, to Carole Cook, U.S. EPA, Office of Atmospheric Programs, Climate Change Division, Mail Code 6207A, Washington, DC 20460, telephone (202) 343-9263, email address: GHGReporting@epa.gov.

Background

In this action, the EPA is providing notice that it is extending the comment period on the proposed rule titled “Greenhouse Gas Reporting Program: 2015 Revisions and Confidentiality Determinations for Petroleum and Natural Gas Systems”, which was published on December 9, 2014 (79 FR 73147). The previous deadline for submitting public comment on that rule was February 9, 2015. The EPA is extending that deadline to February 24, 2015. This extension will provide the general public additional time for participation and comments.

List of Subjects in 40 CFR Part 98

Environmental protection, Administrative practice and procedure, Greenhouse gases, Reporting and recordkeeping requirements.

Dated: January 28, 2015.
Sarah Dunham,
Director, Office of Atmospheric Programs.

[FR Doc. 2015-02334 Filed 2-4-15; 8:45 am]

BILLING CODE 6560-50-P